COMMITTEE FOR THE IMPLEMENTATION OF TEXTILE AGREEMENTS

Determination under the Textile and Apparel Commercial Availability Provision of the Dominican Republic-Central America-United States Free Trade Agreement (CAFTA-DR Agreement)

October 23, 2007.

AGENCY: The Committee for the Implementation of Textile Agreements (CITA).

ACTION: Determination to add a product in unrestricted quantities to Annex 3.25 of the CAFTA-DR Agreement

EFFECTIVE DATE: October 29, 2007.

SUMMARY: The Committee for the Implementation of Textile Agreements (CITA) has determined that certain herringbone stretch woven fabrics of polyester, rayon and spandex yarns, as specified below, are not available in commercial quantities in a timely manner in the CAFTA-DR countries. The product will be added to the list in Annex 3.25 of the CAFTA-DR Agreement in unrestricted quantities.

FOR FURTHER INFORMATION CONTACT: Richard Stetson, Office of Textiles and Apparel, U.S. Department of Commerce, (202) 482 2582.

For further information on-line: http://web.ita.doc.gov/tacgi/CaftaReqTrack.nsf.Reference number: 35.2007.09.19.Fabric.Alston&Birdfor NewWorldSourcing.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

Background:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On March 21, 2007, CITA published final procedures it would follow in considering requests to modify the Annex 3.25 list (72 FR 13256).

On September 19, 2007, the Chairman of CITA received a commercial availability request from Alston & Bird, LLP, on behalf of New World Sourcing, for certain herringbone stretch woven fabrics of polyester, rayon and spandex yarns, of the specifications detailed below. On September 21, 2007, CITA notified interested parties of, and posted on its website, the accepted petition and requested that interested entities provide, by October 3, 2007, a response advising of its objection to the commercial availability request or its ability to supply the subject product. CITA also explained that rebuttals to responses were due to CITA by October 10, 2007.

No interested entity filed a response advising of its objection to the request or its ability to supply the subject product.

In accordance with Section 203(o)(4)(C) of the CAFTA-DR Act, and its procedures, as no interested entity submitted a response objecting to the request or expressing an ability to supply the subject product, CITA has determined to add the specified fabrics to the list in Annex 3.25 of the CAFTA-DR Agreement.

The subject fabrics are added to the list in Annex 3.25 of the CAFTA-DR Agreement in unrestricted quantities. A revised list has been published on-line.

Woven fabric specifications:

HTS Subheading: | 5515.11.0040
Fiber content: | 61 to 67 percent polyester; 30 to 36 percent rayon; 1 to 6 percent spandex.
Staple length: | 3.18 to 4.44 centimeters
Yarns: |
| Warp: plied polyester/rayon staple of any yarn size
| Filling: plied polyester/rayon staple of any yarn size combined with spandex filament of any denier
Thread count: | 36 to 40 warp ends by 22 to 28 filling picks per centimeter
Weave type: | Twill
Weight: | 225 to 250 grams per square meter
Width: | 144 to 155 centimeters
Finish: | Piece Dyed

Janet E. Heinzen,
Acting Chairman, Committee for the Implementation of Textile Agreements.

[FR Doc. E7-21270 Filed 10-26-07; 8:45 am]

BILLING CODE 3510-DS